DEPARTMENT OF HEALTH AND HUMAN SERVICES

Substance Abuse and Mental Health Services Administration

Notice of Meeting

Pursuant to Public Law 92-463, notice is hereby given that the Substance Abuse and Mental Health Services Administration's (SAMHSA) Center for Substance Abuse Prevention's (CSAP) Drug Testing Advisory Board (DTAB) will convene via web conference on September 20th, 2022, from 10:00 a.m. EDT to 4:30 p.m. EDT.

The board will meet in closed-session September 20th, 2022, from 10 a.m. EDT to 4:30 p.m. EDT, to review and discuss draft revisions to the proposed Mandatory Guidelines for Federal Workplace Drug Testing Programs (hair) that have not been made public by the Department of Health and Human Services. Therefore, the September 20th, 2022 meeting, from 10 a.m. to 4:30 p.m. EDT, is closed to the public, as determined by the Assistant Secretary for Mental Health and Substance Use, SAMHSA, in accordance with 5 U.S.C. 552b(c)(9)(B) and 5 U.S.C. App. 2, Section 10(d).

Meeting information and a roster of DTAB members may be obtained by accessing the SAMHSA Advisory Committees website, https://www.samhsa.gov/about-us/advisory-councils/meetings or by contacting the Designated Federal Officer, Lisa Davis.

Committee Name: Substance Abuse and Mental Health Services Administration, Center for Substance Abuse Prevention, Drug Testing Advisory Board.

Dates/Time/Type: September 20th, 2022, from 10 a.m. EDT to 4:30 p.m. EDT: Closed.

Place: Substance Abuse and Mental Health Services Administration, 5600 Fishers Lane, Rockville, MD 20857.

Contact: Lisa S. Davis, M.S., Social Science Analyst, Center for Substance Abuse Prevention, 5600 Fishers Lane, Rockville, Maryland 20857, Telephone: (240) 276-1440, Email: Lisa.Davis@samhsa.hhs.gov.

Anastasia M. Donovan,
Public Health Advisor, Division of Workplace Programs.

[FR Doc. 2022-17610 Filed 8-15-22; 8:45 am]

BILLING CODE 4162-20-P